DEPARTMENT OF HEALTH AND HUMAN SERVICES

Centers for Disease Control and Prevention

Health Resources and Services Administration (HRSA); CDC/HRSA Advisory Committee on HIV and STD Prevention and Treatment

In accordance with section 10(a)(2) of the Federal Advisory Committee Act (Pub. L. 92-463), CDC announces the following meeting of the aforementioned committee:

Times and Dates:

8 a.m.-5 p.m., November 15, 2007.

8 a.m.-12:15 p.m., November 16, 2007.

Place: Doubletree Hotel Bethesda, 8120 Wisconsin Avenue, Bethesda, Maryland, Telephone (301) 652-2000, Fax (301) 664-7317.

Status: Open to the public, limited only by the space available. The meeting room will accommodate approximately 100 people.

Purpose: This Committee is charged with advising the Director, CDC and the Administrator, HRSA, regarding activities related to prevention and control of HIV/AIDS and other STDs, the support of health care services to persons living with HIV/AIDS, and education of health professionals and the public about HIV/AIDS and other STDs.

Matters to be Discussed: Agenda items include issues pertaining to (1) Implementation of the Ryan White HIV/AIDS Treatment Modernization Act of 2006; (2) HIV and STD Prevention and Treatment in Program Targeted to Native Americans, Alaska Natives, and Native Hawaiians; and the (3) Efforts to Integrate and Promote HIV/STD Prevention and Management Strategies.

Agenda items are subject to change as priorities dictate.

Contact Person for More Information: Margie Scott-Cseh, Committee Management Specialist, CDC, Strategic Business Unit, 1600 Clifton Road, NE., Mailstop E-07, Atlanta, Georgia 30333. Telephone (404) 639-8317, Fax (404) 639-8910, E-mail zkr7@cdc.gov.

The Director, Management Analysis and Services Office, has been delegated the authority to sign Federal Register Notices pertaining to announcements of meetings and other committee management activities, for both CDC and the Agency for Toxic Substances and Disease Registry.

Dated: October 2, 2007.
Elaine L. Baker,
Acting Director, Management Analysis and Services Office, Centers for Disease Control and Prevention (CDC).

Page

[FR Doc. E7-19879 Filed 10-9-07; 8:45 am]

BILLING CODE 4163-18-P